DEPARTMENT OF ENERGY

Federal Energy Regulatory Commission

Notice of Effectiveness of Exempt Wholesale Generator Status

Prevailing Wind Park, LLC | EG19EG19-159-000
West of the Pecos Solar, LLC | EG19EG19-160-000
Whitney Hill Wind Power, LLC | EG19EG19-161-000
Misae Lessee LLC | EG19EG19-162-000
Childress Solar Park, LLC | EG19EG19-163-000
Chief Conemaugh Power II, LLC | EG19EG19-164-000
Chief Keystone Power II, LLC | EG19EG19-165-000
Rosewater Wind Farm LLC | EG19EG19-166-000
Kaheawa Wind Power, LLC | EG19EG19-167-000
SR Arlington II MT, LLC | EG19EG19-168-000
SR Arlington II, LLC | EG19EG19-169-000
South Peak Wind LLC | EG19EG19-170-000
PGR Lessee L, LLC | EG19EG19-171-000
TWE Bowman Solar Project, LLC | EG19EG19-172-000
MD Solar 2, LLC | EG19EG19-173-000
FL Solar 4, LLC | EG19EG19-174-000
AZ Solar 1, LLC | EG19EG19-175-000
GA Solar 3, LLC | EG19EG19-176-000
Lily Solar LLC | EG19EG19-177-000
Lily Solar Lessee, LLC | EG19EG19-178-000

Take notice that during the month of October, 2019, the status of the above-captioned entities as Exempt Wholesale Generators became effective by operation of the Commission's regulations. 18 CFR 366.7(a) (2019).

Dated: November 13, 2019.
Nathaniel J. Davis, Sr.,
Deputy Secretary.

[FR Doc. 2019-25032 Filed 11-18-19; 8:45 am]

BILLING CODE 6717-01-P